DEPARTMENT OF LABOR

Employment and Training Administration

Division of Foreign Labor Certification; the Use of Sheepherders for Vegetation Management; General Administration Letter No. 3-01

The Employment and Training Administration administers and interprets the requirements of the temporary, alien agricultural labor certification (H-2A) program. These interpretations are issued in General Administration Letters (GAL's) to its Regional Offices and the State Employment Security Agencies. The GAL below is published in the Federal Register in order to inform the public.

GAL No. 3-01

GAL No. 3-01 provides policy clarification and procedural guidance for the processing of nonagricultural sheep and goat herder applications as H-2A.

Dated: April 6, 2001.
Raymond J. Uhalde,
Deputy Assistant Secretary of Labor.

BILLING CODE 4510-30-P

[FR Doc. 01-9276 Filed 4-13-01; 8:45 am]

BILLING CODE 4510-30-C